DEPARTMENT OF THE INTERIOR

Bureau of Land Management

[MT-060-1430-FQ; MTM 40878]

Opening of Public Land; Montana

AGENCY: Bureau of Land Management, Interior.

ACTION: Notice of Realty Action.

SUMMARY: This notice opens 9.92 acres of land to appropriation under the public land laws. The land is no longer needed by the Bureau of Reclamation and was determined suitable for return to the public domain.

DATES: Effective Date: December 4, 2008.

FOR FURTHER INFORMATION CONTACT: Sandra Ward, BLM Montana State Office, 5001 Southgate Drive, Billings, Montana 59101.

SUPPLEMENTARY INFORMATION: The land was returned to the United States through an exchange with the State of Montana. Public Law No. 304 withdrew the land for reclamation purposes and delegated authority to the Secretary of the Interior to restore to the public domain any lands not needed for reservoir purposes. The following land is hereby opened to settlement, location, entry, and selection under the public land laws:

Principal Meridian, Montana

T. 23 N., R. 1 W.,

sec. 27, Tract within SW¼SE¼SW¼.

The area described contains 9.92 acres in Teton County.

At 9 a.m. on December 4, 2008, the land will be opened to the operation of the public land laws generally, subject to valid existing rights, the provisions of existing withdrawals, other segregations of record, and the requirements of applicable law. All valid applications received at or prior to 9 a.m. on December 4, 2008, shall be considered as simultaneously filed at that time. Those received thereafter shall be considered in the order of filing.

Authority: 43 CFR 2091.6.

Dated: October 28, 2008.
Theresa M. Hanley,
Deputy State Director, Division of Resources.

[FR Doc. E8-26238 Filed 11-3-08; 8:45 am]

BILLING CODE 4310-$$-P